DEPARTMENT OF LABOR

Occupational Safety and Health Administration

[Docket No. OSHA-2009-0028]

Personal Protective Equipment (PPE) for General Industry Standard; Extension of the Office of Management and Budget (OMB) Approval of Information Collection (Paperwork) Requirements

AGENCY: Occupational Safety and Health Administration (OSHA), Labor.

ACTION: Request for public comments.

SUMMARY: OSHA solicits public comments concerning its proposal to extend the Office of Management and Budget's (OMB) approval for the information collection requirements specified in its Personal Protective Equipment (PPE) for General Industry Standard.

DATES: Comments must be submitted (postmarked, sent, or received) by May 28, 2024.

ADDRESSES:

Electronically: You may submit comments and attachments electronically at http://www.regulations.gov, which is the Federal eRulemaking Portal. Follow the instructions online for submitting comments.

Docket: To read or download comments or other material in the docket, go to https://www.regulations.gov. Documents in the docket are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Instructions: All submissions must include the agency name and OSHA docket number OSHA-2009-0028 for the Information Collection Request (ICR). OSHA will place all comments, including any personal information, in the public docket, which may be made available online. Therefore, OSHA cautions interested parties about submitting personal information such as social security numbers and birthdates.

For further information on submitting comments, see the “Public Participation” heading in the section of this notice titled SUPPLEMENTARY INFORMATION.

FOR FURTHER INFORMATION CONTACT: Seleda Perryman, Directorate of Standards and Guidance, OSHA, U.S. Department of Labor; telephone (202) 693-2222.

SUPPLEMENTARY INFORMATION:

I. Background

The Department of Labor, as part of the continuing effort to reduce paperwork and respondent (i.e., employer) burden, conducts a preclearance consultation program to provide the public with an opportunity to comment on proposed and continuing information collection requirements in accordance with the Paperwork Reduction Act of 1995 (PRA) (44 U.S.C. 3506(c)(2)(A)). This program ensures that information is in the desired format, reporting burden (time and costs) is minimal, the collection instruments are clearly understood, and OSHA's estimate of the information collection burden is accurate. The Occupational Safety and Health Act of 1970 (OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of effort in obtaining information (29 U.S.C. 657).

Subpart I specify several paperwork requirements. The following sections describe who uses the information collected under each requirement, as well as how they use it.

Hazard Assessment and Verification

(Section 1910.132(d) & (g))

Paragraph 1910.132(d)(1) and the Personal Fall Protection standard require that employers perform a hazard assessment of the workplace to determine whether hazards are present, or likely to be present, that make the use of PPE necessary.¹ Where such hazards are present, employers must select and have each affected worker use PPE that protects them from the identified hazards (section 1910.132(d)(1)(i)), and communicate PPE selection decisions to each affected worker (section 1910.132(d)(1)(ii)).

¹ Section 1910.132 (g) specifies that the hazard assessment (29 CFR 1910.132(d)) requirements only apply to PPE for the eyes, face, head, feet, and hands. The final rule revised (29 CFR 1910.132 (g)) to also apply the hazard assessment requirements to personal fall protection systems.

Paragraph 1910.132(d)(2) requires that employers certify in writing they have performed the required hazard assessment. The certification must include the date, the name of the person certifying that the hazard assessment was conducted, and identification of the workplace evaluated (area or location). The Personal Fall Protection standard expands the hazard assessment requirement to personal fall protection systems (section 1910.132(g)).

Conducting a PPE hazard assessment ensures that potential workplace hazards necessitating PPE use have been identified and that the PPE selected is appropriate for those hazards and the affected workers. Communicating information on PPE selection decisions to affected workers ensures they are aware that the PPE selected will protect them from the hazards that the assessment identified. The certification of the hazard assessment verifies that employers have conducted the required assessment.

II. Special Issues for Comment

OSHA has a particular interest in comments on the following issues:

• Whether the proposed information collection requirements are necessary for the proper performance of the agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information collection, and transmission techniques.

III. Proposed Actions

OSHA is requesting that OMB extend the approval of the information collection requirements contained in the Personal Protective Equipment (PPE) for General Industry standard. The agency is requesting a decrease in burden hours from 3,778,003 to 3,683,262, a difference of 94,741 hours. The changes in the number of establishments using fall protection accounts for the net decrease in burden hours.

OSHA will summarize the comments submitted in response to this notice and will include this summary in the request to OMB to extend the approval of the information collection requirements.

Type of Review: Extension of a currently approved collection.

Title: Personal Protective Equipment (PPE) for General Industry Standard.

OMB Control Number: 1218-0205.

Affected Public: Business or other for-profits.

Number of Respondents: 2,421,683.

Frequency of Responses: On occasion.

Total Responses: 2,347,415.

Average Time per Response: Varies.

Estimated Total Burden Hours: 3,683,262.

Estimated Cost (Operation and Maintenance): $0.

IV. Public Participation—Submission of Comments on This Notice and Internet Access to Comments and Submissions

You may submit comments in response to this document as follows: (1) electronically at http://www.regulations.gov, which is the Federal eRulemaking Portal; (2) by facsimile (fax); if your comments, including attachments, are not longer than 10 pages you may fax them to the OSHA Docket Office at 202-693-1648. All comments, attachments, and other material must identify the agency name and the OSHA docket number for the ICR (OSHA-2009-0028). You may supplement electronic submissions by uploading document files electronically.

Comments and submissions are posted without change at http://www.regulations.gov. Therefore, OSHA cautions commenters about submitting personal information such as social security numbers and dates of birth. Although all submissions are listed in the http://www.regulations.gov index, some information (e.g., copyrighted material) is not publicly available to read or download from this website. All submissions, including copyrighted material, are available for inspection and copying at the OSHA Docket Office. Information on using the http://www.regulations.gov website to submit comments and access the docket is available at the website's “User Tips” link.

Contact the OSHA Docket Office at (202) 693-2350, (TTY (877) 889-5627) for information about materials not available from the website, and for assistance in using the internet to locate docket submissions.

V. Authority and Signature

James S. Frederick, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on March 18, 2024.
James S. Frederick,
Deputy Assistant Secretary of Labor for Occupational Safety and Health.

[FR Doc. 2024-06759 Filed 3-28-24; 8:45 am]

BILLING CODE 4510-26-P